DEPARTMENT OF ENERGY

Federal Energy Regulatory Commission

Combined Notice of Filings #1

Take notice that the Commission received the following exempt wholesale generator filings:

Docket Numbers: EG25-531-000.

Applicants: Wheatridge Northeast Wind, LLC.

Description: Wheatridge Northeast Wind, LLC submits Notice of Self-Certification of Exempt Wholesale Generator Status.

Filed Date: 9/19/25.

Accession Number: 20250919-5120.

Comment Date: 5 p.m. ET 10/10/25.

Docket Numbers: EG25-532-000.

Applicants: Carousel Energy Storage, LLC.

Description: Carousel Energy Storage, LLC submits Notice of Self-Certification of Exempt Wholesale Generator Status.

Filed Date: 9/19/25.

Accession Number: 20250919-5125.

Comment Date: 5 p.m. ET 10/10/25.

Docket Numbers: EG25-533-000.

Applicants: Pleasant Prairie Solar Energy LLC.

Description: Pleasant Prairie Solar Energy LLC submits Notice of Self-Certification of Exempt Wholesale Generator Status.

Filed Date: 9/19/25.

Accession Number: 20250919-5128.

Comment Date: 5 p.m. ET 10/10/25.

Take notice that the Commission received the following electric rate filings:

Docket Numbers: ER25-3471-000.

Applicants: PJM Interconnection, L.L.C.

Description: § 205(d) Rate Filing: Amendment to ISA, Service Agreement No. 6812; Queue No. AE1-146 to be effective 11/19/2025.

Filed Date: 9/19/25.

Accession Number: 20250919-5033.

Comment Date: 5 p.m. ET 10/10/25.

Docket Numbers: ER25-3472-000.

Applicants: Sky Ranch Solar, LLC.

Description: § 205(d) Rate Filing: Sky Ranch Solar SFA—Correction to Tariff Record Title to be effective 8/1/2025.

Filed Date: 9/19/25.

Accession Number: 20250919-5038.

Comment Date: 5 p.m. ET 10/10/25.

Docket Numbers: ER25-3473-000.

Applicants: City of Pasadena, California.

Description: § 205(d) Rate Filing: City of Pasadena, Cal. TO Tariff and TRR Revisions to be effective 10/1/2025.

Filed Date: 9/19/25.

Accession Number: 20250919-5040.

Comment Date: 5 p.m. ET 10/10/25.

Docket Numbers: ER25-3474-000.

Applicants: Midcontinent Independent System Operator, Inc.

Description: § 205(d) Rate Filing: 2025-09-19_Attachment X True-Up to remove rejected language to be effective 5/25/2025.

Filed Date: 9/19/25.

Accession Number: 20250919-5061.

Comment Date: 5 p.m. ET 10/10/25.

Docket Numbers: ER25-3475-000.

Applicants: Branch Solar, LLC.

Description: § 205(d) Rate Filing: Application For Market-Based Rate Authorization to be effective 12/31/9998.

Filed Date: 9/19/25.

Accession Number: 20250919-5087.

Comment Date: 5 p.m. ET 10/10/25.

Docket Numbers: ER25-3476-000.

Applicants: PJM Interconnection, L.L.C., New York Independent System Operator, Inc.

Description: § 205(d) Rate Filing: New York Independent System Operator, Inc. submits tariff filing per 35.13(a)(2)(iii: NYISO-PJM Joint 205: JOA Tariff Revisions to be effective 11/19/2025.

Filed Date: 9/19/25.

Accession Number: 20250919-5101.

Comment Date: 5 p.m. ET 10/10/25.

Docket Numbers: ER25-3477-000.

Applicants: Pleasant Prairie Solar Energy LLC.

Description: Initial Rate Filing: Application for Market-Based Rate Authorization to be effective 11/19/2025.

Filed Date: 9/19/25.

Accession Number: 20250919-5111.

Comment Date: 5 p.m. ET 10/10/25.

Docket Numbers: ER25-3478-000.

Applicants: Pinnacle Power, LLC.

Description: Tariff Amendment: Notice of Cancellation of Market Based Rate Tariff to be effective 11/17/2025.

Filed Date: 9/19/25.

Accession Number: 20250919-5117.

Comment Date: 5 p.m. ET 10/10/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 19, 2025.
Debbie-Anne A. Reese,
Secretary.

[FR Doc. 2025-18534 Filed 9-24-25; 8:45 am]

BILLING CODE 6717-01-P